NUCLEAR REGULATORY COMMISSION

Constellation Generation Group, LLC, and Unistar Nuclear Operating Services, LLC.; Notice of Receipt and Availability of Application for a Combined License

On March 17, 2008 Constellation Generation Group, LLC, and UniStar Nuclear Operating Services, LLC. (CGG and UniStar) filed with the Nuclear Regulatory Commission (NRC, the Commission) pursuant to Section 103 of the Atomic Energy Act and Title 10 of the Code of Federal Regulations (10 CFR) Part 52, “Early Site Permits; Standard Design Certifications; and Combined Licenses for Nuclear Power Plants,” an application for a combined license (COL) for one Evolutionary Power Reactor nuclear power plant at the Calvert Cliffs site located in Calvert County, Maryland. The reactors are to be identified as Calvert Cliffs Nuclear Power Plant Unit 3.

An applicant may seek a COL in accordance with Subpart C of 10 CFR Part 52. The information submitted by the applicant includes certain administrative information such as financial qualifications submitted pursuant to 10 CFR 52.77, as well as technical information submitted pursuant to 10 CFR 52.79.

Subsequent Federal Register notices will address the acceptability of the tendered COL application for docketing and provisions for participation of the public in the COL review process.

A copy of the application is available for public inspection at the Commission's Public Document Room (PDR), located at One White Flint North, Public File Area O1 F21, 11555 Rockville Pike (first floor), Rockville, Maryland, and via the Agencywide Documents Access and Management System (ADAMS) Public Electronic Reading Room on the Internet at the NRC Web site, http://www.nrc.gov/reading-rm/adams.html. The accession number for the application is ML080990114. Future publicly available documents related to the application will also be posted in ADAMS. Persons who do not have access to ADAMS, or who encounter problems in accessing the documents located in ADAMS, should contact the NRC Public Document Room staff by telephone at 1-800-397-4209 or 301-415-4737, or by e-mail to pdr@nrc.gov. The application is also available at http://www.nrc.gov/reactors/new-licensing/col.html.

Dated at Rockville, Maryland, this 25th day of April 2008.
For the Nuclear Regulatory Commission.
John Rycyna,
Project Manager, EPR Projects Branch, Division of New Reactor Licensing, Office of New Reactors.

[FR Doc. E8-9745 Filed 5-1-08; 8:45 am]

BILLING CODE 7590-01-P